OFFICE OF PERSONNEL MANAGEMENT

[OMB Control No. 3206-0235; Forms RI 20-64, RI 20-64A and RI 20-64B]

Proposed Collection; Comment Request for Review of a Revised Information Collection

AGENCY: Office of Personnel Management.

ACTION: Notice.

SUMMARY: In accordance with the Paperwork Reduction Act of 1995 (Pub. L. 104-13, May 22, 1995), this notice announces that the Office of Personnel Management (OPM) intends to submit to the Office of Management and Budget (OMB) a request for review of a revised information collection. This information collection, “Letter Reply to Request for Information” (OMB Control No. 3206-0235; Form RI 20-64), is used by the Civil Service Retirement System to provide information about the amount of annuity payable after a survivor reduction, to explain the annuity reductions required to pay for the survivor benefit, and to give the beginning rate of survivor annuity. “Former Spouse Survivor Annuity Election” (OMB Control No. 3206-0235; Form RI 20-64A), is used by the Civil Service Retirement System to obtain a survivor benefits election from annuitants who are eligible to elect to provide survivor benefits for a former spouse. “Information on Electing a Survivor Annuity for Your Former Spouse” (OMB Control No. 3206-0235; RI 20-64B), is a pamphlet that provides important information to retirees under the Civil Service Retirement System who want to provide a survivor annuity for a former spouse.

Comments are particularly invited on: whether this information is necessary for the proper performance of functions of OPM, and whether it will have practical utility; whether our estimate of the public burden of this collection of information is accurate, and based on valid assumptions and methodology; and ways in which we can minimize the burden of the collection of information on those who are to respond, through the use of appropriate technological collection techniques or others forms of information technology.

We estimate that 30 survivor elections on RI 20-64A will be processed per year and that of these eight will use RI 20-64 to ask for information about electing a smaller survivor benefit. Form RI 20-64A requires 45 minutes to complete for a burden of 23 hours. Form RI 20-64 requires eight minutes to complete for a burden of one hour. The total burden is 24 hours.

For copies of this proposal, contact Cyrus S. Benson on (202) 606-4808, FAX (202) 606-0910 or via e-mail to Cyrus.Benson@opm.gov. Please include a mailing address with your request.

DATES: Comments on this proposal should be received within 60 calendar days from the date of this publication.

ADDRESSES: Send or deliver comments to—

James K. Freiert (Acting), Deputy Associate Director, Retirement Operations, Retirement Services, U.S. Office of Personnel Management, 1900 E Street, NW., Room 3305, Washington, DC 20415-3500.

For information regarding administrative coordination contact: Cyrus S. Benson, Team Leader, Publications Team, RS/RM/Administrative Services, U.S. Office of Personnel Management, 1900 E Street, NW., Room 4H28, Washington, DC 20415, (202) 606-4808.

John Berry,
Director, U.S. Office of Personnel Management.

[FR Doc. 2010-29051 Filed 11-17-10; 8:45 am]

BILLING CODE 6325-38-P